DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Strategic Prevention Framework State Incentive Grant (SPF SIG) Program (OMB No. 0930-0279)—Reinstatement

SAMHSA's Center for Substance Abuse Prevention (CSAP) is responsible for the evaluation instruments of the Strategic Prevention Framework State Incentive Grant (SPF SIG) Program. The program is a major initiative designed to: (1) Prevent the onset and reduce the progression of substance abuse, including childhood and underage drinking; (2) reduce substance abuse related problems; and, (3) build prevention capacity and infrastructure at the State-, territorial-, tribal- and community-levels.

Five steps comprise the SPF:

Step 1: Profile population needs, resources, and readiness to address the problems and gaps in service delivery.

Step 2: Mobilize and/or build capacity to address needs.

Step 3: Develop a comprehensive strategic plan.

Step 4: Implement evidence-based prevention programs, policies, and practices and infrastructure development activities.

Step 5: Monitor process, evaluate effectiveness, sustain effective programs/activities, and improve or replace those that fail.

An evaluation is currently in process with the SPF SIG Cohorts III, IV and V. The primary objective for this evaluation is to determine the impact of SPF SIG on the reduction of substance abuse related problems, on building state prevention capacity and infrastructure, and preventing the onset and reducing the progression of substance abuse, as measured by the SAMHSA National Outcomes Measures (NOMs). Data collected at the grantee- and community-levels will provide information about process and system outcomes at the grantee and community levels as well as context for analyzing participant-level NOMs outcomes.

This notice invites comments for reinstatement to the protocol for the ongoing Cross-site Evaluation of the Strategic Prevention Framework State Incentive Grant (SPF SIG) (OMB No. 0930-0279) which expired on 11/30/12. This revision includes two parts:

1. Submission of the instruments for the cross-site evaluation of the SPF SIG Cohorts IV and V: (a) The two-part Community-Level Instrument (CLI Parts I and II); and (b) the two Grantee-Level Instruments (GLI)—the GLI Infrastructure Instrument and the GLI Implementation Instrument.

2. Calculation of burden estimates for Cohorts IV and V, 24 and 10 grantees, respectively, for the 2-part CLI and the 2 GLIs. Per guidance from the previous OMB submission for the GLI and CLI Instruments (OMB No. 0930-0279), the number of items have been reduced, resulting in a reduced burden.

Grantee-Level Data Collection

Two web-based surveys, GLI Infrastructure Instrument and GLI Implementation Instrument, were developed for assessing grantee-level efforts and progress. These instruments gather information about the infrastructure of the grantee's overall prevention system and collect data regarding the grantee's efforts and progress in implementing the Strategic Prevention Framework 5-step process. The total burden for these instruments has been reduced by deleting items that are no longer necessary as baseline data has already been gathered from all grantees. Information for both surveys will be gathered once, at the end of the three year approval period. The estimated annual burden for grantee-level data collection is displayed below in Table 1.

Community-Level Data Collection

The Community-level Instrument (CLI) is a two part, web-based survey for capturing information about SPF SIG implementation at the community level. Data from this instrument allows CSAP to assess the progress of the communities in their implementation of both the SPF and prevention-related interventions funded under the initiative. Part I of the instrument gathers information on the communities' progress implementing the five SPF SIG steps and efforts taken to ensure cultural competency throughout the SPF SIG process. Subrecipient communities receiving SPF SIG awards will be required to complete Part I of the instrument annually.

Part II captures data on the specific prevention intervention(s) implemented at the community level, and is completed for each prevention intervention strategy implemented during the specified reporting period. Specific questions are tailored to match the type of prevention intervention strategy implemented (e.g., Prevention Education, Community-based Processes, and Environmental). Information collected on each strategy will include date of implementation, numbers of groups and participants served, frequency of activities, and gender, age, race, and ethnicity of population served/affected. Subrecipient communities' partners receiving SPF SIG awards are required to update Part II of the instrument a minimum of every six months.

The estimated annual burden for specific segments of the community-level data collection is displayed in Table 1. The total burden assumes an average of 15 community-level subrecipients per grantee, annual completion of the CLI Part I, a minimum of two instrument updates per year for the CLI Part II, and an average of three distinct prevention intervention strategies implemented by each community during a 6-month period.

Total Estimates of Annualized Hour Burden

Estimates of total and annualized reporting burden for respondents by evaluation cohort are displayed below in Table 1. CSAP is requesting an average annual estimate of: 167.28 hours at the grantee-level and 5,737.5 hours at the community-level. These hours are a reduction in the average annual estimate requested in the previous submission for grantees and communities.

Table 1—Estimates of Annualized Hour Burden to Respondents
Instrument type | Respondent | Number of respondents | Number of responses per respondent | Total number of responses | Burden per response (hrs.) | Total burden (hrs.)
Grantee-Level Burden
GLI Infrastructure Instrument | Grantee | 34 | 1 | 34 | 2.22 | 75.48
GLI Implementation Instrument | Grantee | 34 | 1 | 34 | 1.95 | 66.30
CLI Part I, 1-20: Community Contact Information—Updates | Grantee | 34 | 3 | 102 | 0.25 | 25.50
Total Grantee-Level Burden | Grantee | 34 |  | 170 |  | 167.28
Community-Level
CLI Part I, 21-172: Community SPF Activities—Updates | Community | 510 | 3 | 1,530 | 0.75 | 1,147.50
CLI Part II—Updates | Community | 510 | 18 | 9,180 | 0.50 | 4,590.00
Total Community-Level Burden | Community | 510 |  | 10,710 |  | 5,737.50

Send comments to Summer King, SAMHSA Reports Clearance Officer, Room 2-1057, One Choke Cherry Road, Rockville, MD 20857 or email her a copy at summer.king@samhsa.hhs.gov. Written comments should be received by November 4, 2013.

Summer King,
Statistician.

[FR Doc. 2013-21340 Filed 8-30-13; 8:45 am]

BILLING CODE 4162-20-P